DEPARTMENT OF DEFENSE

Department of the Army; Corps of Engineers

Availability for the Draft Feasibility Report and Enviornmental Impact Statement/Environmental Impact Report for the Lower Cache Creek, Yolo County, CA, City of Woodland and Vicinity, for Potential Flood Damage Reduction Project

AGENCY: U.S. Army Corps of Engineers, DoD.

ACTION: Notice of availability.

SUMMARY: The U.S. Army Corps of Engineers, in coordination with The Reclamation Board of the State of California and the City of Woodland, have prepared a Draft Feasibility Report and Environmental Impact Statement/Environmental Impact Report (DFR/DEIS-EIR) for the Lower Cache Creek, Yolo County, CA, City of Woodland and Vicinity, for Potential Flood Damage Reduction Project. This investigation proposes to reduce flood damage to the city of Woodland and vicinity. The DFR/DEIS-EIR is being made available for a 45-day public comment period. All comments should be submitted on or before May 5, 2003.

FOR FURTHER INFORMATION CONTACT: To obtain additional information related to this Report, interested persons are invited to contact the following: Ms. Patti Johnson, Environmental Manager, U.S. Army Corps of Engineers, 1325 J Street, Sacramento, California 95814-2922, (916) 557-6611 or fax (916) 557-5138, patti.p.Johnson@usace.army.mil.

SUPPLEMENTARY INFORMATION: 1. Report Availability. Printed copies of the DFR/DEIS-EIR are available for public inspection and review at the following locations:

a. U.S. Army Corps of Engineers, Sacramento District, 1325 J Street, Sacramento, CA 95814-2922.

b. City of Woodland Library, Reference Section, 250 First Street, Woodland, CA 95695.

c. Yolo County Library, Yolo Branch, 37750 Sacramento Street, Yolo, CA 95697.

The entire DFR/DEIS-EIR may also be viewed on the U.S. Army Corps of Engineers, Sacramento District website at the following address: http://spk.usace.army.mil/civ/lowercachecreek/

2. Commenting. Comments received in response to this report, including names and addresses of those who comment, will be considered part of the public record on this proposed action. Comments submitted anonymously will be accepted and considered. Pursuant to 7 CFR 1.27(d), any person may request the agency to withhold a submission from the public record by showing how the Freedom of Information (FOIA) permits such confidentiality. Persons requesting such confidentiality should be aware that, under the FOIA, confidentiality may be granted in only very limited circumstances, such as to protect trade secrets. The Corps will inform the requester of the agency's decision regarding the request for confidentiality, and where the request is denied, the agency will return the submission and notify the requester that the commenters may be resubmitted with or without the name and address.

Dated: March 3, 2003.
Michael J. Conrad, Jr.,
COL, EN, Commanding.

[FR Doc. 03-6701 Filed 3-20-03; 8:45 am]

BILLING CODE 3710-KF-M